SMALL BUSINESS ADMINISTRATION

Military Reservist Economic Injury Disaster Loans; Interest Rate for Third Quarter FY 2014

In accordance with the Code of Federal Regulations 13—Business Credit and Assistance § 123.512, the following interest rate is effective for Military Reservist Economic Injury Disaster Loans approved on or after April 18, 2014.

Military Reservist Loan Program—4.000%

Dated: April 11, 2014.
James E. Rivera,
Associate Administrator for Disaster Assistance.

[FR Doc. 2014-08821 Filed 4-17-14; 8:45 am]

BILLING CODE 8025-01-P